DEPARTMENT OF LABOR

Employment and Training Administration

[TA-W-59,956; TA-W-59,956A; TA-W-59,956B; TA-W-59,956C; TA-W-59,956D; TA-W-59,956E]

International Textile Group, Incorporated, Corporate Headquarters; Greensboro, NC; Including Employees of International Textile Group, Incorporated, Corporate Headquarters; Greensboro, NC; Located at the Following Locations: Stratford, CT; Plano, TX; Chino, CA; Denver, CO; Winnetka, IL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on September 8, 2006, applicable to workers of International Textile Group, Incorporated, Corporate Headquarters, Greensboro, North Carolina. The notice was published in the Federal Register on September 21, 2006 (71 FR 55218).

At the request of a company official, the Department reviewed the certification for workers of the subject firm. New information shows that worker separations have occurred involving employees of the Corporate Headquarters, Greensboro, North Carolina facility of International Textile Group, Incorporated.

Employees of the Corporate Headquarters working out of Stratford, Connecticut, Plano, Texas, Chino, California, Denver, Colorado, and Winnetka, Illinois provided sales function services for the production of broadwoven synthetic and wool fabric produced by the subject firm.

Based on these findings, the Department is amending this certification to include employees of the Corporate Headquarters, Greensboro, North Carolina facility of International Textile Group, Incorporated working out of Stratford, Connecticut, Plano, Texas, Chino, California, Denver, Colorado and Winnetka, Illinois.

The intent of the Department's certification is to include all workers of International Textile Group, Incorporated, Corporate Headquarters, Greensboro, North Carolina who were adversely affected by a shift in production to Mexico.

The amended notice applicable to TA-W-59,956 is hereby issued as follows:

All workers of International Textile Group, Incorporated, Corporate Headquarters, Greensboro, North Carolina (TA-W-59,956), including employees of International Textile Group, Incorporated, Corporate Headquarters, Greensboro, North Carolina located in Stratford, Connecticut (TA-W-59,956A), Plano, Texas (TA-W-59,956B), Chino, California (TA-W-59,956C), Denver, Colorado (TA-W-59,956D), and Winnetka, Illinois (TA-W-59,956E), who became totally or partially separated from employment on or after August 16, 2005, through September 8, 2008, are eligible to apply for adjustment assistance under Section 223 of the Trade Act of 1974, and are also eligible to apply for alternative trade adjustment assistance under Section 246 of the Trade Act of 1974.

Signed at Washington, DC, this 2nd day of February 2007.
Linda G. Poole,
Certifying Officer, Division of Trade Adjustment Assistance.

[FR Doc. E7-2164 Filed 2-8-07; 8:45 am]

BILLING CODE 4510-FN-P